DEPARTMENT OF THE TREASURY

Agency Information Collection Activities; Submission for OMB Review; Comment Request; Request for Individual Access to Records Protected Under the Privacy Act and Consent for Disclosure of Records Protected Under the Privacy Act

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before April 15, 2024 to be assured of consideration.

ADDRESSES: Send comments regarding the burden estimate, or any other aspect of the information collection, including suggestions for reducing the burden, to Treasury PRA Clearance Officer, 1750 Pennsylvania Ave. NW, Suite 8100, Washington, DC 20220, or email at PRA@treasury.gov.

FOR FURTHER INFORMATION CONTACT: Copies of the submissions may be obtained from Ryan Law by emailing Ryan.Law@treasury.gov, calling (202) 622-8098, or viewing the entire information collection request at www.reginfo.gov.

SUPPLEMENTARY INFORMATION:

Title: Request for Individual Access to Records Protected under the Privacy Act and Consent for Disclosure of Records Protected under the Privacy Act.

OMB Control Number: 1505-NEW.

Type of Review: Extension without change of a currently approved collection.

Description: The Request for Individual Access to Records Protected under the Privacy Act and Consent for Disclosure of Records Protected under the Privacy Act, was developed in accordance with the Office of Management and Budget (OMB) Memorandum M-21-04, Modernizing Access to and Consent for Disclosure of Records Subject to the Privacy Act, which implements the requirements of the Creating Advanced Streamlined Electronic Services for Constituents Act of 2019 (“CASES Act”). This form is based on the mandatory OMB M-21-04 templates for individuals to submit requests for accessing and consenting to the disclosure of records protected under the Privacy Act of 1974, as amended, 5 U.S.C. 552a.

The Request for Individual Access to Records Protected under the Privacy Act form is used by individuals seeking access to their records under the Privacy Act and any information pertaining to them that are maintained in Treasury's systems of records. The Privacy Act provides that “the parent of any minor, or the legal guardian of any individual who has been declared to be incompetent due to physical or mental incapacity or age by a court of competent jurisdiction, may act on behalf of the individual.” Therefore, this form may also be used by a parent or legal guardian.

Form Number: None.

Affected Public: Public individuals.

Estimated Number of Respondents: 316.

Frequency of Response: Annual.

Estimated Total Number of Annual Responses: 316.

Estimated Time per Response: 3 hours.

Estimated Total Annual Burden Hours: 948.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Melody Braswell,
Treasury PRA Clearance Officer.

[FR Doc. 2024-03153 Filed 2-14-24; 8:45 am]

BILLING CODE 4810-AK-P